DEPARTMENT OF THE INTERIOR

National Park Service

[NPS-WASO-NAGPRA-NPS0025391; PPWOCRADN0-PCU00RP14.R50000]

Notice of Inventory Completion: U.S. Army Corps of Engineers, Kansas City District, Kansas City, MO, and the Nebraska State Historical Society, Lincoln, NE

AGENCY: National Park Service, Interior.

ACTION: Notice.

SUMMARY: The U.S. Army Corps of Engineers, Kansas City District (Kansas City District), and the Nebraska State Historical Society (NSHS) have completed an inventory of human remains and associated funerary objects, in consultation with the appropriate Indian Tribes or Native Hawaiian organizations, and have determined that there is a cultural affiliation between the human remains and associated funerary objects and present-day Indian Tribes or Native Hawaiian organizations. Lineal descendants or representatives of any Indian Tribe or Native Hawaiian organization not identified in this notice that wish to request transfer of control of these human remains and associated funerary objects should submit a written request to the NSHS. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the NSHS at the address in this notice by May 31, 2018.

ADDRESSES: Rob Bozell, Nebraska State Historical Society, P.O. Box 82554, Lincoln, NE 68501, telephone (402) 525-1624, email rob.bozell@nebraska.gov.

SUPPLEMENTARY INFORMATION: Notice is here given in accordance with the Native American Graves Protection and Repatriation Act (NAGPRA), 25 U.S.C. 3003, of the completion of an inventory of human remains and associated funerary objects under the control of the U.S. Army Corps of Engineers, Kansas City District (Kansas City District), Kansas City, MO, and in the physical custody of the Nebraska State Historical Society (NSHS), Lincoln, NE. The human remains and associated funerary objects were removed from Harlan County, NE.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the NSHS professional staff in consultation with representatives of the Arapaho Tribe of the Wind River Reservation, Wyoming; Iowa Tribe of Kansas and Nebraska; Kiowa Indian Tribe of Oklahoma; Northern Cheyenne Tribe of the Northern Cheyenne Indian Reservation, Montana; Omaha Tribe of Nebraska; Pawnee Nation of Oklahoma; Ponca Tribe of Nebraska; Santee Sioux Nation, Nebraska; Sisseton-Wahpeton Oyate of the Lake Traverse Reservation, South Dakota; and Winnebago Tribe of Nebraska.

The following tribes were invited to consult but did not participate: Apache Tribe of Oklahoma; Assiniboine and Sioux Tribes of the Fort Peck Indian Reservation, Montana; Cheyenne and Arapaho Tribes, Oklahoma (previously listed as the Cheyenne-Arapaho Tribes of Oklahoma); Cheyenne River Sioux Tribe of the Cheyenne River Reservation, South Dakota; Comanche Nation, Oklahoma; Crow Creek Sioux Tribe of the Crow Creek Reservation, South Dakota; Crow Tribe of Montana; Delaware Nation, Oklahoma; Delaware Tribe of Indians; Iowa Tribe of Oklahoma; Kaw Nation, Oklahoma; Kickapoo Tribe of Indians of the Kickapoo Reservation in Kansas; Kickapoo Tribe of Oklahoma; Lower Brule Sioux Tribe of the Lower Brule Reservation, South Dakota; Oglala Sioux Tribe (previously listed as the Oglala Sioux Tribe of the Pine Ridge Reservation, South Dakota); Otoe-Missouria Tribe of Indians, Oklahoma; Ponca Tribe of Indians of Oklahoma; Prairie Band Potawatomi Nation (previously listed as the Prairie Band of Potawatomi Nation, Kansas); Rosebud Sioux Tribe of the Rosebud Indian Reservation, South Dakota; Sac & Fox Nation of Missouri in Kansas and Nebraska; Sac & Fox Nation, Oklahoma; Sac & Fox Tribe of the Mississippi in Iowa; Spirit Lake Tribe, North Dakota; Standing Rock Sioux Tribe of North & South Dakota; Three Affiliated Tribes of the Fort Berthold Reservation, North Dakota; Wichita and Affiliated Tribes (Wichita, Keechi, Waco & Tawakonie), Oklahoma; and Yankton Sioux Tribe of South Dakota.

History and Description of the Remains

The human remains listed in this notice are curated at the NSHS but are under the control of the Kansas City District.

In 1985, human remains representing, at minimum, 17 individuals were removed from the Graham Ossuary (25HN5) in Harlan County, NE. The human remains were excavated by the University of Kansas under contract to the Kansas City District. The human remains represent seven adults, five sub-adults, and five infants, all of unknown sex. No known individuals were identified. The 2,203 associated funerary objects are five chipped stone tools, 250 chipped stone flakes, 581 pottery fragments, 15 modified mussel shell fragments, 23 unmodified mussel shell fragments, one modified animal bone, 1,320 unmodified animal bone fragments, one glass fragment, three stones, one lot of charcoal, one lots of stone fragments, and two soil samples.

Between 1950 and 1952 and in 1985, human remains representing, at minimum, eight individuals were removed from Site 25HN36 in Harlan County, NE. The human remains excavated in 1950-52 were recovered by the University of Nebraska archeological field school and the human remains excavated in 1985 were recovered by the University of Kansas under contract to the Kansas City District. The human remains represent eight adults of indeterminate sex. One of these includes a modified calvarium (skull cap) cut into the shape of a bowl, polished on the cut surface, and drilled with four holes. This may be a trophy skull. No known individuals were identified. The six associated funerary objects are one ceramic vessel, one lot of ceramic sherds, one bison scapula, one piece of hematite, one chipped stone knife, and one ground stone tool.

In 1948 and in 1985, human remains representing, at minimum, six individuals were removed from the Indian Hill Site (25HN42) in Harlan County, NE. The human remains excavated in 1948 were recovered by a joint University of Nebraska-University of Kansas archeological field school, and the human remains excavated in 1985 were recovered by the University of Kansas under contract to the Kansas City District. The human remains represent two adults, one sub-adult, one infant, and two individuals of indeterminate age. All of the individuals are of unknown sex. No known individuals were identified. The 320 associated funerary objects are one stone projectile point, one groundstone tool, one polished shell, one seed, 70 chipped stone flakes and other modified stones, 15 ceramic sherds, 73 animal bones, 59 animal bone beads, four snail shells, 93 shell beads, and two unmodified shells.

Between 1950 and 1951, human remains representing, at minimum, one individual were removed from Site 25HN44 in Harlan County, NE. The human remains were recovered by a University of Nebraska archeological field school. The human remains represent one adult female. No known individuals were identified. No associated funerary objects are present.

At some point between 1948 and 1985, human remains representing, at minimum, one individual were removed from an unknown location on U.S. Army Corps of Engineers property possibly near Site 25HN42 in Harlan County, NE. The human remains were assigned number 25HN9002. The human remains were probably recovered by the University of Nebraska or the University of Kansas during various field operations although it is not known which. The human remains represent one adult. No known individuals were identified. No associated funerary objects are present.

In 1988, human remains representing, at minimum, one individual were removed from the Methodist Cove locality on U.S. Army Corps of Engineers property in Harlan County, NE. The human remains were not assigned an archeological site number but are designated 25HN00 (Methodist Cove). The human remains represent one adult male. No known individuals were identified. The three funerary objects are one ceramic sherd, one bird bone, and one soil sample.

At some point prior to 1980, human remains representing, at minimum, four individuals were removed from an unknown location on U.S. Army Corps of Engineers property possibly at the Methodist Cove locality in Harlan County, NE. The human remains were not assigned an archeological site number but are designated 25HN00 (possibly Methodist Cove). The human remains represent one adult male, two adult females, and one infant. No known individuals were identified. The 33 associated funerary objects are four chipped stone tools, two metal tools, two metal fragments, two ceramic sherds, nine modified mussel shell fragments, three unmodified mussel shell fragments, five animal bone fragments, two concretions, and four soil samples.

At some point prior to 1976, human remains representing, at minimum, one individual were removed from an unknown location on U.S. Army Corps of Engineers property possibly near Site 25HN42 in Harlan County, NE. The human remains were not assigned an archeological site number but are designated 25HN00. The human remains represent one adult. No known individuals were identified. No associated funerary objects are present.

At some point prior to 1976, human remains representing, at minimum, one individual were removed from an unknown location on U.S. Army Corps of Engineers property possibly near Site 25HN42 in Harlan County, NE. The human remains were not assigned an archeological site number but are designated 25HN00. The human remains represent one adult. No known individuals were identified. No associated funerary objects are present.

The human remains listed in this notice were determined to be Native American based on archeological context, burial patterns, osteology, or associated diagnostic artifacts. Based on oral tradition and archeological evidence, the Kansas City District and the Nebraska State Historical Society have determined there is a relationship of shared group identity that can be reasonably traced between the human remains and associated funerary objects listed in this notice and the Native American people that are represented today by 37 Indian tribes.

Determinations Made by the NSHS

Officials of the NSHS have determined that:

• Pursuant to 25 U.S.C. 3001(9), the human remains described in this notice represent the physical remains of 40 individuals of Native American ancestry.

• Pursuant to 25 U.S.C. 3001(3)(A), the 2,565 objects described in this notice are reasonably believed to have been placed with or near individual human remains at the time of death or later as part of the death rite or ceremony.

• Pursuant to 25 U.S.C. 3001(2), there is a relationship of shared group identity that can be reasonably traced between the Native American human remains and associated funerary objects and the Apache Tribe of Oklahoma; Arapaho Tribe of the Wind River Reservation, Wyoming; Assiniboine and Sioux Tribes of the Fort Peck Indian Reservation, Montana; Cheyenne and Arapaho Tribes of Oklahoma; Cheyenne River Sioux Tribe of the Cheyenne River Reservation, South Dakota; Comanche Nation, Oklahoma; Crow Creek Sioux Tribe of the Crow Creek Reservation, South Dakota; Crow Tribe of Montana; Delaware Tribe of Indians; Delaware Nation, Oklahoma; Iowa Tribe of Kansas and Nebraska; Iowa Tribe of Oklahoma; Kaw Nation, Oklahoma; Kickapoo Tribe in Kansas; Kickapoo Tribe of Oklahoma; Kiowa Indian Tribe of Oklahoma; Lower Brule Sioux Tribe of the Lower Brule Reservation, South Dakota; Northern Cheyenne Tribe of the Northern Cheyenne Indian Reservation, Montana; Oglala Sioux Tribe; Omaha Tribe of Nebraska; Otoe-Missouri Tribe of Indians, Oklahoma; Pawnee Nation of Oklahoma; Ponca Tribe of Nebraska; Ponca Tribe of Indians of Oklahoma; Prairie Band of Potawattamie of Kansas; Rosebud Sioux Tribe of the Rosebud Indian Reservation, South Dakota; Sac and Fox Nation of Missouri in Kansas and Nebraska; Sac and Fox Nation, Oklahoma; Sac and Fox Tribe of the Mississippi in Iowa; Santee Sioux Nation, Nebraska; Sisseton-Wahpeton Sioux Oyate of the Lake Traverse Reservation, South Dakota; Spirit Lake Sioux Tribe of North Dakota; Standing Rock Sioux Tribe of North and South Dakota; Three Affiliated Tribes of the Fort Berthold Reservation of North Dakota; Wichita and Affiliated Tribes; Winnebago Tribe of Nebraska; and the Yankton Sioux Tribe of South Dakota (hereafter referred to as “The Culturally Affiliated Tribes”).

Additional Requestors and Disposition

Lineal descendants or representatives of any Indian tribe or Native Hawaiian organization not identified in this notice that wish to request transfer of control of these human remains and associated funerary should submit a written request with information in support of the request to Rob Bozell, Nebraska State Historical Society, P.O. Box 82554, Lincoln, NE 68501, telephone (402) 525-1624, email rob.bozell@nebraska.gov, by May 31, 2018. After that date, if no additional requestors have come forward, transfer of control of the human remains and associated funerary objects to The Culturally Affiliated Tribes may proceed.

The NSHS is responsible for notifying The Culturally Affiliated Tribes that this notice has been published.

Dated: April 6, 2018.
Melanie O'Brien,
Manager, National NAGPRA Program.

[FR Doc. 2018-09177 Filed 4-30-18; 8:45 am]

BILLING CODE 4312-52-P